DEPARTMENT OF JUSTICE

Antitrust Division

Notice Pursuant to the National Cooperative Research and Production Act of 1993—EOS/ESD Association, Inc.

Notice is hereby given that, on September 10, 2004, pursuant to section 6(a) of the National Cooperative Research and Production Act of 1993, 15 U.S.C. 4301 et seq. (“the Act”), EOS/ESD Association, Inc. (“ESD Association”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: EOS/ESD Association, Inc., Rome, NY. The nature and scope of ESD Association's standards development activities are: The development of test methods and guidelines used for the control of electrical overstress and electrostatic discharge.

Additional information concerning ESD Association's standards development activities may be obtained from Tammy Muldoon at (315) 339-6937.

Dorothy B. Fountain,
Deputy Director of Operations, Antitrust Division.

[FR Doc. 04-24566 Filed 11-2-04; 8:45 am]

BILLING CODE 4410-11-M